ENVIRONMENTAL PROTECTION AGENCY

[OPP-66293; FRL-6802-4]

Oxythioquinox Products Cancellation Order

AGENCY: Environmental Protection Agency (EPA).

ACTION: Notice.

SUMMARY: This notice announces EPA's cancellation order for the product and use cancellations as requested by Bayer Corporation for all products containing oxythioquinox (Morestan), 6-methyl-1,3-dithiolo (4,5-b) quinoxalin-2-one or chinomethionate, and accepted by EPA, pursuant to section 6(f) of the Federal Insecticide, Fungicide, and Rodenticide Act (FIFRA). This order follows up a March 17, 1999 notice of receipt of cancellation request and proposed existing stocks provisions. The Agency did not receive any substantive comments opposing the requested cancellation. Accordingly, EPA is issuing an order granting the cancellation request. Any distribution, sale, or use of the products subject to this cancellation order is only permitted in accordance with the terms of the existing stocks provisions of this cancellation order.

DATES: The cancellations are effective September 19, 2001.

FOR FURTHER INFORMATION CONTACT: Mark Wilhite, Special Review and Reregistration Division (7508C), Office of Pesticide Programs, Environmental Protection Agency, 1200 Pennsylvania Ave., NW., Washington, DC 20460, telephone number: (703) 308-8174; fax number: (703) 308-8586; e-mail address: wilhite.mark@epa.gov.

SUPPLEMENTARY INFORMATION:

I. General Information

A. Does this Action Apply to Me?

This action is directed to the public in general. You may be potentially affected by this action if you manufacture, sell, distribute, or use oxythioquinox products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-66293. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel Registrations

A. Background

Oxythioquinox (trade name Morestan) is an insecticide/miticide/fungicide first registered in 1968, to control mites, mite eggs on ornamental plants in green houses, nurseries and landscapes. On October 17, 1996, Bayer requested voluntary cancellation of all food uses but citrus. Bayer also requested cancellation of all but two of the 24(c) registrations (California and Louisiana). Subsequently, on June 4, 1997, the Agency received a request from Bayer to cancel registration of the remaining food-use products: Morestan 25WP (3125-117) and Morestan Solupak 25 WP 9 (3125-302). These cancellations were announced in the Federal Register of August 27, 1997 (62 FR 45416) (FRL-5737-4), and became final March 9, 1998. Initiation of the exiting stocks period began when the Agency received the request for cancellations and ran for 18 months. On February 1, 1999, Bayer requested cancellation of its remaining oxythioquinox registrations. In a Federal Register notice dated March 17, 1999 (64 FR 13191) (FRL-6067-8), EPA announced its receipt of Bayer's February 1, 1999 cancellation request. The Agency did not receive any substantive comments opposing the requested cancellation and is therefore issuing a cancellation order in today's notice granting the cancellation request. After canceling these product registrations, there will be no remaining registered products containing oxythioquinox.

In its February 1, 1999 cancellation request, Bayer conditioned its request on EPA's permitting sale and distribution of the existing stocks for 18 months, and use for 2 years, after the cancellation becomes effective. In other words, Bayer intended to stop sale and distribution sometime in 2001 and asked that EPA provide adequate time for the end users to exhaust their supplies. However, the cancellation did not take place in 1999, as both EPA and Bayer contemplated. In response to EPA's plan to issue a cancellation order now, Bayer indicated that an existing stocks provision permitting sale and distribution for 18 months is unnecessary, because Bayer has already stopped sale and distribution of these products. However, both EPA and Bayer believe that allowing use until September 30, 2002, would be necessary to provide adequate notice to end users and to allow them to exhaust their supplies. Accordingly, EPA includes in the cancellation order an existing stocks provision permitting the use of the existing stocks until September 30, 2002. Any distribution, sale, or use of the products subject to this cancellation order is only permitted in accordance with the terms of the existing stocks provisions of this cancellation order.

III. Terminations Pursuant to Voluntary Cancellation Requests

Under section 6(f)(1) of FIFRA, registrants may request at any time that “a pesticide registration of the registrant be canceled or amended to terminate one or more pesticide uses.” (7 U.S.C. 136d(f)(1)). Consistent with 6(f)(1) of FIFRA, EPA is issuing the order of cancellation of EPA registrations listed in Table 1 below. Oxythioquinox (Morestan) will no longer appear in any registered products.

Table 1.—Products Registration Cancellations
Product Name | EPA Registration Number
Morestan 4 Ornamental Miticide | 3125-381
Morestan 4 Nursery Miticide | 3125-437
Morestan 4 Technical | 3125-205

IV. Cancellation Order

Pursuant to section 6(f) of FIFRA, EPA hereby approves the requested oxythioquinox product registration cancellations, as identified in Table 1. Any distribution, sale, or use of existing stocks of the products identified in Table 1 in a manner inconsistent with the terms of this Order or the Existing Stock Provisions in Unit V. will be considered a violation of section 12(a)(2)(K) of FIFRA and/or section 12(a)(1)(A) of FIFRA.

V. Existing Stocks Provision

Pursuant to section 6(f) of FIFRA, EPA is granting the voluntary request for the cancellation of the product registrations identified in Table 1. For purposes of the cancellation order, the term “existing stocks” will be defined, pursuant to EPA's existing stocks policy of June 26, 1991 (56 FR 29362) (FRL-3846-4), as those stocks of a registered pesticide product which are currently in the United States and which have been packaged, labeled, and released for shipment prior to the effective date of the amendment or cancellation. Any distribution, sale, or use of existing stocks after the effective date of the cancellation order that is not consistent with the terms of that order will be considered a violation of section 12(a)(2)(K) and/or 12(a)(1)(A) of FIFRA.

1. Sale and distribution. All sale and distribution of the existing stocks shall be unlawful as of the effective date of the cancellation order, except for the purposes of shipping such stocks for export consistent with section 17 of FIFRA or for proper disposal.

2. Use. All use of the existing stocks shall be unlawful as of September 30, 2002.

Lists of Subjects

Environmental protection, Pesticides and pests.

Dated: September 7, 2001.
Jack E. Housenger,
Acting Director, Special Review and Reregistration Division, Office of Pesticide Programs.

[FR Doc. 01-23224 Filed 9-18-01; 8:45 am]

BILLING CODE 6560-50-S